DEPARTMENT OF ENERGY

Federal Energy Regulatory Commission

Combined Notice of Filings #2

Take notice that the Commission received the following electric rate filings:

Docket Numbers: ER16-1058-000; EL16-56-000.

Applicants: Midcontinent Independent System Operator, Inc.

Description: Midcontinent Independent System Operator, Inc. submits tariff filing per 35.19a(b): Refund Report to be effective N/A.

Filed Date: 2/22/17.

Accession Number: 20170222-5113.

Comments Due: 5 p.m. ET 3/15/17.

Docket Numbers: ER16-791-001.

Applicants: Southwest Power Pool, Inc.

Description: Compliance filing: Compliance Filing in ER16-791—Settlement Revenue Distribution Mechanism to be effective 2/1/2016.

Filed Date: 2/22/17.

Accession Number: 20170222-5054.

Comments Due: 5 p.m. ET 3/15/17.

Docket Numbers: ER17-1008-000.

Applicants: Southern California Edison Company.

Description: § 205(d) Rate Filing: LGIA Golden Oasis Project SA No. 188 to be effective 2/23/2017.

Filed Date: 2/22/17.

Accession Number: 20170222-5091.

Comments Due: 5 p.m. ET 3/15/17.

Docket Numbers: ER17-1009-000.

Applicants: PJM Interconnection, L.L.C.

Description: § 205(d) Rate Filing: Amendment to Service Agreement No. 2934 re: Change of Contact Info to be effective 10/5/2014.

Filed Date: 2/22/17.

Accession Number: 20170222-5107.

Comments Due: 5 p.m. ET 3/15/17.

Docket Numbers: ER17-1010-000.

Applicants: Power Authority of the State of New York, New York Independent System Operator, Inc.

Description: § 205(d) Rate Filing: NYPA 205 depreciation rate to comply with settlement to be effective 3/1/2017.

Filed Date: 2/22/17.

Accession Number: 20170222-5109.

Comments Due: 5 p.m. ET 3/15/17.

Docket Numbers: ER17-1011-000.

Applicants: PJM Interconnection, L.L.C.

Description: § 205(d) Rate Filing: Original Service Agreement No. 4626; Queue No. AA1-135 to be effective 1/23/2017.

Filed Date: 2/22/17.

Accession Number: 20170222-5127.

Comments Due: 5 p.m. ET 3/15/17.

Docket Numbers: ER17-1012-000.

Applicants: Arizona Public Service Company.

Description: Tariff Cancellation: Cancellation of Interconnection Operating, Service Agreement No. 174 to be effective 4/24/2017.

Filed Date: 2/22/17.

Accession Number: 20170222-5130.

Comments Due: 5 p.m. ET 3/15/17.

Take notice that the Commission received the following electric reliability filings:

Docket Numbers: RR15-2-005.

Applicants: North American Electric Reliability Corporation.

Description: 2016 ERO Enterprise Annual CMEP Report and Petition.

Filed Date: 2/21/17.

Accession Number: 20170221-5264.

Comments Due: 5 p.m. ET 3/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2017.
Nathaniel J. Davis, Sr.,
Deputy Secretary.

[FR Doc. 2017-04211 Filed 3-3-17; 8:45 am]

BILLING CODE 6717-01-P